DEPARTMENT OF THE INTERIOR

Minerals Management Service

Outer Continental Shelf (OCS), Eastern Gulf of Mexico (GOM), Proposed Oil and Gas Lease Sale 224, March 2008

AGENCY: Minerals Management Service (MMS), Interior.

ACTION: Notice of Availability (NOA) of the Draft Supplemental Environmental Impact Statement and Public Hearings.

SUMMARY: The MMS has prepared a draft supplemental environmental impact statement (SEIS) on a tentatively scheduled 2008 oil and gas leasing proposal (Sale 224) in the Eastern GOM, off the States of Louisiana, Mississippi, Alabama, and Florida. As mandated in the recently enacted Gulf of Mexico Energy Security Act (GOMESA) of 2006 (Pub. L. 109-432, December 20, 2006), the MMS shall offer a portion of the “181 Area,” located in the Eastern Planning Area, more than 125 miles from Florida for oil and gas leasing. The proposed action involves 130 tracts.

Authority: The NOA and notice of public hearings is published pursuant to the regulations (40 CFR 1503) under the authority of the National Environmental Policy Act (NEPA); the Environmental Quality Improvement Act of 1970, as amended (42 U.S.C. 4371 et seq.); Section 309 of the Clean Air Act, as amended (42 U.S.C. 7609); and Executive Order 11514 (March 5, 1970, as amended by Executive Order 11991 (May 24, 1977).

SUPPLEMENTARY INFORMATION: The recently enacted GOMESA of 2006 (Pub. L. 109-432, December 20, 2006) mandated MMS to offer a portion of the “181 Area” located in the newly defined Eastern Planning Area, more than 125 miles from Florida and west of the Military Mission Line (86 degrees, 41 minutes 30 seconds West longitude) for oil and gas leasing “as soon as practicable, but not later than 1 year, after the date of enactment of this Act.” The Act mandates offering this area “notwithstanding the omission of the 181 Area * * * from any OCS leasing program under section 18 of the Outer Continental Shelf Lands Act (43 U.S.C. 1344).” However, this action is not exempted from other legal requirements, such as NEPA or the Coastal Zone Management Act (CZMA). The MMS has prepared an SEIS to the original Sale 181 EIS published in 2001 (which encompassed the lands now being considered for Sale 224) in order to address these requirements. To meet the 1-year requirements of GOMESA, this sale should be held no later than December 2007. However, to comply fully with all pertinent laws, rules, and regulations, and to allow the public an opportunity to participate in the NEPA process, the earliest MMS would be able to offer this area for leasing would be approximately March 2008. Postponing the sale to be held as “soon as practicable” while complying with all applicable laws is in the best interests of all parties, including the American public as owners of these resources. It also is more economical and efficient for the Government and industry to hold this sale in conjunction with Central GOM Sale 206 at the same time and location. The area to be offered in Sale 224 is small, approximately 130 tracts, whereas recent Central Gulf sales have offered over 4,000 tracts. The logistics of holding a sale are intensive and relatively costly; therefore, it makes sense to hold the smaller sale in conjunction with a larger sale. Additionally, holding Sale 224 in conjunction with Sale 206 would help ensure that a sufficient number of companies would be represented in bidding, which may enhance the number of bids and possibly the revenue generated by more competitive bidding.

This NOA follows the Call for Information and Nominations and the Notice of Intent to Prepare an EIS in the prelease process for the sale. The draft SEIS associated with this NOA updated the environmental and socioeconomic analyses in the Gulf of Mexico OCS Oil and Gas Lease Sale 181, Eastern Planning Area Final EIS (OCS EIS/EA MMS 2001-051), which addressed the original “Sale 181 Area.” The MMS plans to complete the requirements of NEPA, the OCS Lands Act, and CZMA coverage for the proposed lease sale.

SEIS Availability: To obtain a single, printed or CD-ROM copy of the draft SEIS, you may contact the Minerals Management Service, Gulf of Mexico OCS Region, Public Information Office (MS 5034), 1201 Elmwood Park Boulevard, Room 114, New Orleans, Louisiana 70123-2394 (1-800-200-GULF). An electronic copy of the draft SEIS is available at the MMS Internet Web site at http://www.gomr.mms.gov/homepg/regulate/environ/nepa/nepaprocess.html. Many libraries along the Gulf Coast have been sent copies of the draft SEIS. To find out which libraries, and their locations, have copies of the draft SEIS for review, you may contact the MMS Public Information Office or visit the MMS Internet Web site at http://www.gomr.mms.gov/homepg/regulate/environ/libraries.html.

Public Hearings: The MMS will hold public hearings to receive comments on the draft SEIS. The public hearings are scheduled as follows:

• July 24, 2007, Larose Civic Center, Larose Regional Park, Larose, Louisiana, 7 p.m.

• July 26, 2007, Florida New World Landing, 600 South Palafox Street, Pensacola, Florida, 3 p.m. and 7 p.m.

If you wish to present testimony at a hearing, you should register one hour prior to the meeting. Each hearing will briefly recess when all speakers have had an opportunity to speak. If there are no additional speakers, the hearing will adjourn immediately after the recess. Written statements submitted at a hearing will be considered part of the hearing record. If you are unable to attend the hearings, you may submit written statements.

Comments: Federal, State, and local government agencies, and other interested parties are requested to send their written comments on the draft SEIS in one of the following two ways:

1. In written form enclosed in an envelope labeled “Comments on the Lease Sale 224 SEIS” and mailed (or hand carried) to the Regional Supervisor, Leasing and Environment (MS 5410), Minerals Management Service, Gulf of Mexico OCS Region, 1201 Elmwood Park Boulevard, New Orleans, Louisiana 70123-2394.

2. Electronically to the MMS e-mail address: environment@mms.gov.

Comments should be submitted no later than 45 days from the publication of this NOA.

FOR FURTHER INFORMATION CONTACT: Minerals Management Service, Mr. Dennis Chew, Gulf of Mexico OCS Region, 1201 Elmwood Park Boulevard, New Orleans, Louisiana 70123-2394, (504) 736-2793.

Dated: June 19, 2007.
James F. Bennett,
Acting Associate Director for Offshore Minerals Management.

[FR Doc. E7-12667 Filed 6-28-07; 8:45 am]

BILLING CODE 4310-MR-P